NUCLEAR REGULATORY COMMISSION

[Docket No. 030-36974]

Notice of a Public Meeting Regarding Pa'ina Hawaii, LLC, License Application Request for the Operation of an Irradiator In Honolulu, HI

AGENCY: Nuclear Regulatory Commission.

ACTION: Notice of meeting.

SUMMARY: The U.S. Nuclear Regulatory Commission (NRC) received on June 27, 2005, from Pa'ina Hawaii, LLC, a Hawaiian owned company, an application to build and operate a commercial pool type industrial irradiator in Honolulu, Hawaii, near the Honolulu International Airport. This commercial irradiator will irradiate fresh fruit and vegetables bound for the mainland from the Hawaiian Islands, cosmetics, and pharmaceutical products. The irradiator will also be used by the applicant to conduct research and development projects, and irradiate a wide range of other materials as specifically approved by the NRC on a case-by-case basis.

The NRC plans to hold a public meeting to solicit comments from members of the public on the proposed license application. The meeting is open to the public and all interested parties may attend. This meeting is the first of several public meetings that the NRC will hold in Hawaii to enhance public awareness of the NRC's independent regulatory role in protecting public health and safety and the environment, to allow public involvement in NRC decision-making matters associated with this license application, and to promote two-way communication on matters related to the NRC's licensing and inspection processes. The public is invited to participate in this meeting by providing comments and asking questions throughout the meeting.

DATES: Wednesday, August 31, 2005, from 7 p.m. to 9 p.m.

ADDRESSES: Ala Moana Hotel, 410 Atkinson Drive, Honolulu, Hawaii 96814. Telephone number 808-955-4811.

FOR FURTHER INFORMATION CONTACT: Roberto J. Torres, Acting Chief, Nuclear Materials Licensing Branch, Division of Nuclear Materials Safety, Region IV, U.S. Nuclear Regulatory Commission, 611 Ryan Plaza Drive, Suite 400, Arlington, Texas 76011, telephone (817) 860-8189, fax (817) 860-8188, or by e-mail: rjt@nrc.gov.

Agenda: Welcome; NRC staff presentation on licensing and inspection processes; public comment.

Dated in Arlington, Texas this 10th day of August, 2005.
For the Nuclear Regulatory Commission.
Roberto J. Torres,
Acting Chief, Nuclear Materials Licensing Branch, Division of Nuclear Materials Safety, Region IV.

[FR Doc. E5-4529 Filed 8-18-05; 8:45 am]

BILLING CODE 7590-01-P